GENERAL SERVICES ADMINISTRATION

Notice of Intent To Prepare an Environmental Impact Statement

AGENCY: General Services Administration; National Capital Region.

ACTION: Notice

SUMMARY: The General Services Administration (GSA), National Capital Region, intends to prepare an Environmental Impact Statement (EIS) for the Development of the Southeast Federal Center, Washington, DC.

The purpose of the proposed action is to enhance the value of the SEFC to the United States by realizing the Southeast Federal Center's potential and putting the site into productive reuse. Development is anticipated to be by transfer to the private sector in accordance with the SEFC Act. GSA envisions the development of a vibrant, urban, mixed-used waterfront destination, offering a combination of uses—commercial, residential, retail, and cultural—that will attract office workers, residents, and visitors from across the District and beyond.

FOR FURTHER INFORMATION CONTACT: Patricia Daniels, Project Executive, General Services Administration, National Capital Region at (202) 205-5857. Please also call this number if special assistance is needed to attend and participate in the scoping meeting.

SUPPLEMENTARY INFORMATION: The notice of intent is as follows:

Notice of Intent To Prepare an Environmental Impact Statement for the Development of the Southeast Federal Center, Washington, DC

Pursuant to the requirements of the National Environmental Policy Act of 1969 (NEPA), the Council on Environmental Quality's Regulations (40 CFR part 1500-1508), and GSA Order PBS P1095.1F (Environmental Considerations in Decision Making, dated October 19, 1999), GSA proposes to prepare an EIS for the development of the Southeast Federal Center (SEFC)—a 44-acre underdeveloped, urban waterfront site in Washington, DC—in response to the Southeast Federal Center Public-Private Development Act of 2000 (Public Law 106-407, hereafter “the SEFC Act”). Not included in the 44 acres and not a part of this proposed action are 11 acres being developed separately as the site of the new U.S. Department of Transportation (DOT) Headquarters. The need for the proposed action arises because the SEFC—once an industrial area within the Washington Navy Yard—is underutilized. Its size and location in the heart of a neighborhood currently undergoing social and economic revitalization clearly indicate that it has great potential to become a unique waterfront destination with natural beauty, historic character (the site is eligible for historic district status), and quality architecture and urban design.

The purpose of the proposed action is to enhance the value of the SEFC to the United States by realizing the SEFC's potential and putting the site into productive reuse. Development is anticipated to be by transfer to the private sector in accordance with the SEFC Act. GSA envisions the development of a vibrant, urban, mixed-used waterfront destination, offering a combination of uses—commercial, residential, retail, and cultural—that will attract office workers, residents, and visitors from across the District and beyond.

In accordance with the SEFC Act, GSA intends to work with the private sector to develop a visionary, yet achievable, long-term development strategy for the site. To this end, GSA developed a Draft Illustrative Plan to provide a framework for the creation of a land use strategy for the SEFC. GSA issued a Request for Qualifications (RFQ) from developers interested in developing the site using the Draft Illustrative Plan as a guide. GSA did not seek specific development proposals in response to the RFQ. The agency's primary objective at that stage was to assess the quality and capabilities of potential developers. The FRQ will be followed by the issuance of a Request for Proposals (RFP) that will seek detailed proposals by qualified developers.

GSA will integrate NEPA compliance with the development and procurement processes during the preparation of the EIS. The draft EIS will be prepared using the combination of the Draft Illustrative Plan, developers' responses to the RFQ, and the NEPA public scoping process to determine the reasonable range of alternatives.

Alternatives Under Consideration

A preliminary group of development alternatives for the SEFC site that would be evaluated in the EIS has been developed by GSA, pending comment received during scoping and responses to the RFQ from potential developers. The alternatives generally follow a logical location preference of commercial/retail development on M Street and the west side of the site and residential/cultural development along the Anacostia River and the east side of the site:

Alternative 1. Maximum commercial and retail with minimum residential and cultural land uses. The potential buildout would be 1.8 million square feet (SF) commercial, 1,700 residential units (1.8 million SF), 350,000 SF retail, and 20,000 SF cultural.

Alternative 2. Maximum residential and cultural with minimum commercial and retail land uses. The potential build out would be 1.2 million SF commercial, 2,700 residential units (2.9 million SF), 160,000 SF retail, and 100,000 SF cultural

Alternative 3. Maximum commercial and retail uses with minimum residential and cultural land uses, but arrayed differently on the site than under Alternative 1. The potential build out would be 1.8 million SF commercial, 1,700 residential units (1.8 million SF), 350,000 SF retail, and 20,000 SF cultural.

Alternative 4. Maximum residential and cultural with minimum commercial and retail land uses, but arrayed differently on the site than under Alternative 2. The potential build out would be 1.2 million SF commercial, 2,700 residential units (2.9 million SF), 160,000 SF retail, and 100,000 SF cultural.

Alternative 5. Maximum square footage of all four land uses: 1.8 million SF commercial, 2,700 residential units (2.9 million SF), 350,000 SF retail, and 100,000 SF cultural.

No Build Alternative. No development under this proposed action with new commercial, retail, residential, or cultural land uses would occur on the 44-acre portion of the SEFC.

GSA anticipates that the following categories of impacts will be addressed in the EIS: Land use, economic, community, environmental justice, transportation system, air quality, noise, hazardous waste, cultural resources, and natural systems. The EIS will also address methods to mitigate any significant impacts. GSA will comply with its obligations under section 106 of the National Historic Preservation Act to identify potential impacts to cultural resources on the SEFC site. Comments received during scoping may result in consideration of additional issues.

Scoping Process

In accordance with NEPA, a scoping process will be conducted to aid in determining the scope of issues to be addressed and for identifying the significant issues related to development of the SEFC. Scoping will be accomplished through a public scoping meeting, direct mail correspondence to potentially interested persons, agencies, and organizations, and meetings with agencies with an interest in the development of the SEFC. It is important that federal, regional, state, and local agencies, and interested individuals and groups take this opportunity to identify environmental concerns that should be addressed during the preparation of the Draft EIS.

Public Scoping Meeting

The public scoping meeting will be held at Van Ness Elementary School, 1150 5th St., SE., Washington, DC on December 3, 2002, from 6 to 8:30 pm. The meeting will be an informal open house, where visitors may come, receive information, discuss the proposal with study team members, give their comments, and leave anytime during the meeting period. GSA will publish notices announcing this meeting approximately two weeks prior to the meeting in the Washington Post, the Washington Times, and appropriate neighborhood newspapers, and through direct mailing to local and community organizations. GSA will prepare a scoping report, available to the public, that will summarize the comments received and facilitate their incorporation into the EIS process.

Throughout the EIS process, information on the project and its progress may be found on the GSA website: http://www.gsa.gov/southeastfederalcenter

Written Comments: Agencies and the public are encouraged to provide written comments on the scoping issues in addition to or in lieu of giving their comments at the public scoping meeting. Written comments regarding the environmental analysis for the development of the SEFC must be postmarked no later than December 17, 2002 and sent to the following address: General Services Administration, Attention: Patricia Daniels, Project Executive, 7th & D Streets, SW., Suite 2002, Washington, DC 20407.

Scoping Meeting Place

The meeting will be held at the following address: Van Ness Elementary School, 1150 5th St., SE., Washington, DC.

Date: December 3, 2002.

Time: 6 pm to 8:30 pm.

FOR FURTHER INFORMATION CONTACT: Patricia Daniels, Project Executive, General Services Administration, National Capital Region, (202) 205-5857. Please also call this number if special assistance is needed to participate in the scoping meeting.

Dated: November 5, 2002.
Donald C. Williams,
Regional Administrator, National Capital Region, General Services Administration.

[FR Doc. 02-28838 Filed 11-12-02; 8:45 am]

BILLING CODE 6820-23-M